DEPARTMENT OF ENERGY

Federal Energy Regulatory Commission

[Docket No. RP01-208-000]

Amoco Production Company, et al.; Notice of Emergency Petition

DATE: January 11, 2001.

Take notice that on January 5, 2001, Amoco Production Company, BP Exploration & Oil Inc., Chevron U.S.A. Inc., ExxonMobil Gas Marketing Company, a division of Exxon Mobil Corporation, and Shell Offshore Inc. (Producers) tendered for filing an emergency petition requesting the Commission to issue an immediate temporary restraining order, prior to January 9, 2001, to prevent Southern Natural Gas Company from shutting in natural gas supply upstream of the Toca processing plants, located in Louisiana. In addition, the Producers request the Commission to schedule an emergency technical conference to explore all of the issues as soon as possible.

Producers states that copies of the filing have been served upon each person designated on the official service list compiled by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed on or before January 16, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1424 Filed 1-17-01; 8:45 am]

BILLING CODE 6717-01-M